CONSUMER PRODUCT SAFETY COMMISSION

Proposed Collection; Comment Request—Customer Satisfaction Surveys (Fast Track Recall Survey, Ombudsman Survey, State Partner Survey, Hotline Survey, and Clearinghouse Survey)

AGENCY: Consumer Product Safety Commission.

ACTION: Notice.

SUMMARY: As required by the Paperwork Reduction Act of 1995 (44 U.S.C. Chapter 35), the Consumer Product Safety Commission (CPSC) requests comments on proposed surveys to determine customers' level of satisfaction with existing services. The Commission will consider all comments received in response to this notice before requesting approval of this collection of information from the Office of Management and Budget.

DATES: Written comments must be received by the Office of the Secretary not later than January 15, 2002.

ADDRESSES: Written comments should be captioned “Customer Satisfaction Surveys” and mailed to the Office of the Secretary, Consumer Product Safety Commission, Washington, DC 20207, or delivered to the attention of that office, room 419, North Tower, 4330 East-West Highway, Bethesda, Maryland, 20814. Written comments may also be sent to the Office of the Secretary by facsimile at (301) 504-0127 or by e-mail at cpsc-os@cpsc.gov.

FOR FURTHER INFORMATION CONTACT: For information about the proposed collection of information, or to obtain a copy of the questions to be used for this collection of information, call or write Linda L. Glatz, management and program analyst, Office of Planning and Evaluation, Consumer Product Safety Commission, Washington, DC 20207; (301) 504-0416, Ext. 2264.

SUPPLEMENTARY INFORMATION:

A. Background

This request for clearance of several planned customer satisfaction surveys is in response to the Government Performance and Results Act (GPRA)-related evaluations of service quality and customer satisfaction. “Customers” of CPSC include any individual or entity interested in or affected by agency activities. These would include, but not be limited to, (1) Consumers telephoning the Hotline to report product-related incidents, or to receive information; (2) consumers, industry members, or others contacting the National Injury Information Clearinghouse for information; (3) State representatives who work with CPSC on cooperative programs; (4) firms using CPSC's Fast-Track Product Recall Program to report and simultaneously propose satisfactory product recall plans; and (5) small businesses that have sought information or assistance from the CPSC's small business ombudsman.

The information will be used by the CPSC Office of Planning and Evaluation to prepare sections of the agency's annual performance report (required by the GPRA). This information will provide measures of the quality and effectiveness of agency efforts related to three goals in its strategic plan (informing the public, industry services, and customer satisfaction). If this information is not collected, the Commission would not have useful measures of its effectiveness in providing useful services to consumers and others, and information necessary to guide program development would not be available.

B. Estimated Burden

The surveys will be conducted by in-house staff through telephone or in writing by (1) Customer service follow-up queries with samples of telephone Hotline callers, (2) surveying a sample of firms using the Fast-track Product Recall Program to assess their views and suggestions for improvements in the service aspects of the program, and (3) conducting mail surveys of state partners and samples of customers of the National Injury Information Clearinghouse. Fewer than 5 customer surveys or information collection activities a year would be conducted using this clearance.

The Commission staff estimates the number of annual respondents to be about 1,504. Among the anticipated sources and annual respondents are:

Hotline | 1,000
National Injury Information Clearinghouse | 300
Small Businesses | 50
State Partners | 54
Fast Track Product Recall Program | 100
| 1,504

The average time needed for each response is estimated at 3.5 minutes. Thus, the annual time burden would be about 5,264 (3.5 × 1,504) minutes or 88 hours. Using $13.50 an hour (the average hourly wage for all private industry workers, according to the 2000 edition of the Statistical Abstract of the U.S.) times 88 hours, the cost would be negligible (a total of about $1,188 per year).

C. Requests for Comments

The Commission solicits written comments from all interested persons about the proposed surveys. The Commission specifically seeks information relevant to the following topics:

—Whether the surveys described above are necessary for the proper performance of the Commission's functions, including whether the information would have practical utility;

—Whether the estimated burden of the proposed collections of information are accurate;

—Whether the quality, utility, and clarity of the information to be collected could be enhanced; and

—Whether the burden imposed by the collection of information could be minimized by use of automated, electronic or other technological collection techniques, or other forms of information technology.

Dated: November 9, 2001.
Todd Stevenson,
Acting Secretary, Consumer Product Safety Commission.

[FR Doc. 01-28685 Filed 11-15-01; 8:45 am]

BILLING CODE 6355-01-P